NATIONAL SCIENCE FOUNDATION

Advisory Committee for Cyberinfrastructure; Notice of Meeting

In accordance with the Federal Advisory Committee Act (Pub. L. 92-463, as amended), the National Science Foundation (NSF) announces the following meeting:

Name and Committee Code: Advisory Committee for Cyberinfrastructure (25150).

Date and Time: September 18, 2019; 12:00 p.m.-6:00 p.m.; September 19, 2019; 8:30 a.m.-3:00 p.m.

Place: National Science Foundation, 2415 Eisenhower Avenue, Alexandria, VA 22314; Room C 2010 (September 18) and Room E 3430 (September 19).

Type of Meeting: Open.

Contact Person: Amy Friedlander, CISE, Office of Advanced Cyberinfrastructure; National Science Foundation, 2415 Eisenhower Avenue, Alexandria, VA 22314; Telephone: 703-292-8970.

Minutes: May be obtained from the contact person listed above.

Purpose of Meeting: To advise NSF on the impact of its policies, programs and activities in the OAC community. To provide advice to the Director/NSF on issues related to long-range planning.

Agenda: Updates on NSF wide OAC activities.

Dated: August 13, 2019.
Crystal Robinson,
Committee Management Officer.

[FR Doc. 2019-17656 Filed 8-15-19; 8:45 am]

BILLING CODE 7555-01-P